DEPARTMENT OF TRANSPORTATION

Federal Aviation Administration

Notice of Receipt and Request for Review of Noise Compatibility Program

AGENCY: Federal Aviation Administration, DOT.

ACTION: Notice of receipt and request for review of noise compatibility program.

SUMMARY: The Federal Aviation Administration (FAA) announces that it is reviewing a proposed noise compatibility program that was submitted for Newark Liberty International Airport by The Port Authority of New York and New Jersey. This program was submitted subsequent to a determination by FAA that associated noise exposure maps submitted for Newark Liberty International Airport were in compliance with applicable requirements, effective January 15, 2019. The proposed noise compatibility program will be approved or disapproved on or before February 15, 2023. This notice also announces the availability of this noise compatibility program for public review and comment.

DATES: The effective date of start of FAA's review of the noise compatibility program is August 19, 2022. The public comment period ends October 18, 2022.

FOR FURTHER INFORMATION CONTACT: Andrew Brooks, Regional Environmental Program Manager, Airports Division, Federal Aviation Administration, 1 Aviation Plaza, Room 516, Jamaica, NY 11434. Phone Number: 718-553-2511. Comments on the proposed noise compatibility program should also be submitted to the above office.

SUPPLEMENTARY INFORMATION: This notice announces that the FAA is reviewing a proposed noise compatibility program (NCP) for Newark Liberty International Airport which will be approved or disapproved on or before February 15, 2023. This notice also announces the availability of this program for public review and comment.

An airport operator who has submitted noise exposure maps (NEM) that are found by FAA to be in compliance with the requirements of title 49, chapter 475 of the United States Code (U.S.C.) (Aviation Safety and Noise Abatement Act, hereinafter referred to as “the Act”) and Title 14, Code of Federal Regulations (CFR) part 150 (14 CFR 150), promulgated pursuant to the Act, may submit a noise compatibility program for FAA approval which sets forth the measures the operator has taken or proposes to reduce existing non-compatible uses and prevent the introduction of additional non-compatible uses. The FAA previously determined that the NEMs for Newark Liberty International Airport were in compliance with applicable requirements under 14 CFR 150, effective January 15, 2019 (Noise Exposure Map Notice for Newark Liberty International Airport, Newark, New Jersey, volume 84, Federal Register, pages 27183-4, June 11, 2019).

The FAA has formally received the NCP for Newark Liberty International Airport on August 8, 2022. The airport operator has requested that the FAA review this material and that the noise mitigation measures, to be implemented jointly by the airport and surrounding communities, be approved as a NCP under section 47504 of the Act. Preliminary review of the submitted material indicates that it conforms to the requirements for the submittal of NCPs, but that further review will be necessary prior to approval or disapproval of the program for Newark Liberty International Airport. The formal review period, limited by law to a maximum of 180 days, was initiated on August 19, 2022 and will be completed on or before February 15, 2023.

The FAA's detailed evaluation will be conducted under the provisions of 14 CFR 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the proposed NCP for Newark Liberty International Airport are available for examination online at http://panynjpart150.com/EWR_FNCP.asp.

The Port Authority of New York and New Jersey has also made a hard copy of the document available for review at the EWR Redevelopment Program Community Outreach Office, located at 79 West Jersey Street, Elizabeth, New Jersey. Interested parties can contact the office at (732) 258-1801 or via email at anewewr@panynj.gov to arrange for a review.

Questions regarding this notice may be directed to the individual named above under the heading, FOR FURTHER INFORMATION CONTACT.

Issued in Jamaica, NY, on August 19, 2022.
David A. Fish,
Director, Airports Division, Eastern Region.

[FR Doc. 2022-18218 Filed 8-23-22; 8:45 am]

BILLING CODE 4910-13-P